DEPARTMENT OF HEALTH AND HUMAN SERVICES

National Institutes of Health

Office of the Director, National Institutes of Health Notice of Meeting

Pursuant to section 10(a) of the Federal Advisory Committee Act, as amended, notice is hereby given of a meeting of the Council of Councils.

The meeting will be held as a virtual meeting and will be open to the public. Individuals who plan to view the virtual meeting and need special assistance or other reasonable accommodations to view the meeting, should notify the Contact Person listed below in advance of the meeting. The meeting will be videocast and can be accessed from the NIH Videocasting and Podcasting website (https://videocast.nih.gov/watch=41242).

Name of Committee: Council of Councils.

Open: December 30, 2020.

Time: 2:00 p.m. to 3:00 p.m.

Agenda: Presentation and Discussion of the Proposed Addition of a New Office to Division of Program Coordination, Planning, and Strategic Initiatives.

Place: National Institutes of Health, Building 1, One Center Drive, Bethesda, MD 20892, (Virtual Meeting).

Contact Person: Robin Kawazoe, Acting Executive Secretary, Council of Councils, Deputy Director, Division of Program Coordination, Planning, and Strategic Initiatives, Office of the Director, NIH, Building 1, Room 260, 1 Center Drive, Bethesda, MD 20892, kawazoer@mail.nih.gov. 301-402-9852.

Any interested person may file written comments with the committee by forwarding the statement to the Contact Person listed on this notice. The statement should include the name, address, telephone number and when applicable, the business or professional affiliation of the interested person.

Information is also available on the Council of Council's home page at http://dpcpsi.nih.gov/council/ where an agenda will be posted before the meeting date.

This notice is being published less than 15 days prior to the meeting due to the timing limitations imposed by the review and funding cycle.

(Catalogue of Federal Domestic Assistance Program Nos. 93.14, Intramural Research Training Award; 93.22, Clinical Research Loan Repayment Program for Individuals from Disadvantaged Backgrounds; 93.232, Loan Repayment Program for Research Generally; 93.39, Academic Research Enhancement Award; 93.936, NIH Acquired Immunodeficiency Syndrome Research Loan Repayment Program; 93.187, Undergraduate Scholarship Program for Individuals from Disadvantaged Backgrounds, National Institutes of Health, HHS)

Dated: December 14, 2020.
Tyeshia Roberson,
Program Analyst, Office of Federal Advisory Committee Policy.

[FR Doc. 2020-27815 Filed 12-17-20; 8:45 am]

BILLING CODE 4140-01-P